DEPARTMENT OF ENERGY

Remediation of the Moab Uranium Mill Tailings Final Environmental Impact Statement, Grand and San Juan Counties, Utah, Final Environmental Impact Statement

AGENCY: Department of Energy (DOE).

ACTION: Notice of availability.

SUMMARY: The U.S. Department of Energy's (DOE's) Office of Environmental Management (EM) announces the availability of the Remediation of the Moab Uranium Mill Tailings Final Environmental Impact Statement, Grand and San Juan Counties, Utah (DOE/EIS-0355)(FEIS). The FEIS has been prepared in accordance with the regulations of the Council on Environmental Quality (Title 40 Code of Federal Regulations [CFR] Parts 1500-1508) for implementing the National Environmental Policy Act (NEPA) and DOE's NEPA Implementing Procedures (10 CFR Part 1021). The FEIS analyzes the potential environmental impacts associated with remediating contaminated soils, tailings, and ground water at the Moab Uranium Mill Tailings Site (Moab site), Grand County, Utah, and contaminated soils in adjacent public and private properties (vicinity properties) near the Moab site.

The FEIS analyzes one on-site and three off-site alternative disposal locations for remediation of surface contamination; one alternative for remediation of contaminated ground water; and the No Action Alternative. Remediation alternatives for the disposal of surface contamination include on-site disposal of the mill tailings at their current location in Moab, Utah; and three off-site disposal alternatives in Utah: Klondike Flats, Crescent Junction, and the White Mesa Mill. For transportation of the mill tailings to the off-site alternatives, three modes have been considered: Truck, rail, and slurry pipeline.

The FEIS identifies Crescent Junction as DOE's preferred alternative for disposal of the Moab mill tailings and other contaminated materials using predominantly rail transportation. Under the preferred alternative, DOE would remove the contaminated mill tailings from adjacent to the Colorado River and relocate them at the Crescent Junction site. The FEIS also identifies active ground water remediation as DOE's preferred alternative for contaminated ground water to eliminate the potential ongoing impacts to aquatic species in the Colorado River resulting from contaminated ground water discharges.

DATES: Copies of the FEIS were distributed to Members of Congress, American Indian Tribal governments, state and local governments, other Federal agencies, and organizations and individuals who are known to have an interest in the FEIS on July 25-26, 2005. DOE plans to issue a Record of Decision for the Moab FEIS no sooner than September 6, 2005.

ADDRESSES: Send requests for copies of the FEIS to: Mr. Donald Metzler, Moab Federal Project Director, U.S. Department of Energy, 2597 B ¾ Road, Grand Junction, Colorado, 81503; by facsimile: (970) 248-6023; by phone: (970) 248-7612 or toll free at (800) 637-4575; or by e-mail at moabcomments@gjo.doe.gov. The FEIS is available on the DOE NEPA Web site at http://www.eh.doe.gov/nepa/documents.html, on the project Web site at http://gj.em.doe.gov/moab/, and at the following reading room locations:

Grand County Library 25 South 100 East, Moab, Utah, (435) 259-5421.

Library hours:

9 a.m. to 8 p.m. Monday through Wednesday.

9 a.m. to 7 p.m. Thursday and Friday.

9 a.m. to 5 p.m. Saturday.

Closed Sunday.

Blanding Branch Library, 25 West 300 South, Blanding, Utah, (435) 678-2335.

Library hours:

Noon to 7 p.m. Monday through Thursday.

2 to 6 p.m. Friday.

10 a.m. to 2 p.m. Saturday.

Closed Sunday.

White Mesa Ute Administrative Building, (off U.S. Highway 191), White Mesa, Utah, (435) 678-3397.

Reading Room hours:

8 a.m. to 4:30 p.m. Monday through Friday.

Closed Saturday and Sunday.

The DOE Freedom of Information Act Office and Reading Room, Room 1E-190, 1000 Independence Ave, SW., Washington, DC 20585, (202) 586-3142.

FOR FURTHER INFORMATION CONTACT: For additional information on the Office of Environmental Management's (EM's) Moab FEIS, please contact Mr. Donald Metzler at the address or phone numbers listed in the ADDRESSES section above, or Steve Frank, EM NEPA Compliance Officer, U.S. Department of Energy, 1000 Independence Avenue, SW., Washington, DC 20585; (202) 586-7478.

For general information regarding the DOE NEPA process, please contact: Carol M. Borgstrom, Director, Office of NEPA Policy and Compliance (EH-42), U.S. Department of Energy, 1000 Independence Avenue, SW., Washington, DC 20585; (202) 586-4600 or leave a message at (800) 472-2756.

Steven Frank,
Office of Environmental Management, NEPA Compliance Officer.

[FR Doc. 05-15503 Filed 8-4-05; 8:45 am]

BILLING CODE 6450-01-P